ENVIRONMENTAL PROTECTION AGENCY

[EPA-HQ-OAR-2009-0548; FRL-9091-3]

Agency Information Collection Activities; Proposed Collection; Comment Request; Exhaust Emissions of Light-duty Vehicles in Metropolitan Detroit ; EPA ICR No. 2363.01, OMB Control No. 2060-NEW

AGENCY: Environmental Protection Agency.

ACTION: Notice.

SUMMARY: In compliance with the Paperwork Reduction Act (PRA) (44 U.S.C. 3501 et seq.), this document announces that EPA is planning to submit a request for a new Information Collection Request (ICR) to the Office of Management and Budget (OMB). Before submitting the ICR to OMB for review and approval, EPA is soliciting comments on specific aspects of the proposed information collection as described below.

DATES: Comments must be submitted on or before February 8, 2010.

ADDRESSES: Submit your comments, identified by Docket ID No. EPA-HQ-OAR-2009-0548, by one of the following methods:

• http://www.regulations.gov: Follow the on-line instructions for submitting comments.

• E-mail: a-and-r-docket@epa.gov.

• Fax: (734) 214-4939.

• Mail: Environmental Protection Agency, EPA Docket Center (EPA/DC), Air and Radiation Docket and Information Center, Mail code 6102T, 1200 Pennsylvania Avenue, NW., Washington, DC 20460, and (2) OMB at: Office of Information and Regulatory Affairs, Office of Management and Budget (OMB), Attention: Desk Officer for EPA, 725 17th Street, NW., Washington DC 20503.

• Hand Delivery: Environmental Protection Agency, EPA Docket Center (EPA/DC), Air and Radiation Docket and Information Center, Mail code 6102T, 1200 Pennsylvania Avenue, NW., Washington, DC 20460. Such deliveries are only accepted during the Docket's normal hours of operation, and special arrangements should be made for deliveries of boxed information.

Instructions: Direct your comments to Docket ID No. EPA-HQ-OAR-2009-0548. EPA's policy is that all comments received will be included in the public docket without change and may be made available online at http://www.regulations.gov, including any personal information provided, unless the comment includes information claimed to be Confidential Business Information (CBI) or other information whose disclosure is restricted by statute. Do not submit information that you consider to be CBI or otherwise protected through www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

FOR FURTHER INFORMATION CONTACT: Constance Hart, Assessment and Standards Division, Office of Transportation and Air Quality, Environmental Protection Agency, AAAQMC, 2000 Traverwood Drive, Ann Arbor, MI 48105; telephone number: (734) 214-4340; fax number: (734) 214-4939; e-mail address: hart.connie@epa.gov.

SUPPLEMENTARY INFORMATION:

How Can I Access the Docket and/or Submit Comments?

EPA has established a public docket for this ICR under Docket ID No. EPA-HQ-OAR-2009-0548, which is available for online viewing at http://www.regulations.gov, or in person at the Air and Radiation Docket in the EPA Docket Center (EPA/DC), EPA West, Room 3334, 1301 Constitution Ave., NW., Washington, DC. The EPA/DC Public Reading Room is open from 8:30 a.m. to 4:30 p.m., Monday through Friday, excluding legal holidays. The telephone number for the Reading Room is 202-566-1744, and the telephone number for the Air and Radiation Docket is 202-566-1742.

Use http://www.regulations.gov to obtain a copy of the draft collection of information, submit or view public comments, access the index listing of the contents of the docket, and to access those documents in the public docket that are available electronically. Once in the system, select “search,” then key in the docket ID number identified in this document.

What Information Is EPA Particularly Interested in?

Pursuant to section 3506(c)(2)(A) of the PRA, EPA specifically solicits comments and information to enable it to:

(i) Evaluate whether the proposed collection of information is necessary for the proper performance of the functions of the Agency, including whether the information will have practical utility;

(ii) Evaluate the accuracy of the Agency's estimate of the burden of the proposed collection of information, including the validity of the methodology and assumptions used;

(iii) Enhance the quality, utility, and clarity of the information to be collected; and

(iv) Minimize the burden of the collection of information on those who are to respond, including through the use of appropriate automated electronic, mechanical, or other technological collection techniques or other forms of information technology, e.g., permitting electronic submission of responses.

What Should I Consider When I Prepare My Comments for EPA?

You may find the following suggestions helpful for preparing your comments:

1. Explain your views as clearly as possible and provide specific examples.

2. Describe any assumptions that you used.

3. Provide copies of any technical information and/or data you used that support your views.

4. If you estimate potential burden or costs, explain how you arrived at the estimate that you provide.

5. Offer alternative ways to improve the collection activity.

6. Make sure to submit your comments by the deadline identified under DATES.

7. To ensure proper receipt by EPA, be sure to identify the docket ID number assigned to this action in the subject line on the first page of your response. You may also provide the name, date, and Federal Register citation.

What Information Collection Activity or ICR Does This Apply to?

“Docket ID No. EPA-HQ-OAR-2009-0548.”

Affected Entities: Entities potentially affected by this action are individual private owners of light-duty vehicles, including passenger cars and light trucks.

Title: Exhaust Emissions of Light-duty Vehicles in Metropolitan Detroit.

ICR Numbers: EPA ICR No. 2363.01, OMB Control No. 2060-NEW.

ICR Status: This ICR is for a new information collection activity. An Agency may not conduct or sponsor, and a person is not required to respond to, a collection of information, unless it displays a currently valid OMB control number. The OMB control numbers for EPA's regulations in title 40 of the CFR, after appearing in the Federal Register when approved, are listed in 40 CFR part 9. In addition, they are displayed either by publication in the Federal Register or by other appropriate means, such as on the related collection instrument or form, if applicable. The display of OMB control numbers in certain EPA regulations is consolidated in 40 CFR part 9.

Abstract: In response to recommendations from the National Research Council of the National Academy of Sciences, the EPA is initiating a systematic data collection designed to improve the methods and tools used by the Agency to estimate exhaust emissions as vehicles age. Data to be collected include vehicle type, vehicle characteristics, and measurement of exhaust emissions.

One of the main issues in the study of vehicle emissions is the difficulty in acquiring representative results. Major challenges include the diversity of technology, the highly variable nature of emissions, the complexity and expense of measurement, difficulty in acquiring and retaining engines or vehicles, and the array of external variables that influence emissions, ranging from temperature to driver behavior. In combination, these factors tend to limit the numbers of vehicles that can be included in a given study. Limited sample sizes in combination with high variability make emissions data challenging to interpret.

The collection is a test program, to be conducted by the Office of Transportation and Air Quality (OTAQ) in the Office of Air and Radiation (OAR). This study will be designed to develop and test novel screening, sampling and measurement procedures. These approaches promise to substantially reduce the cost of exhaust emissions measurement as well as to improve the accuracy of resulting estimates.

An innovative feature of this project will be the use of roadside remote-sensing measurements to construct a pool of vehicles from which vehicles can be sampled for purposes of recruitment and measurement using portable emissions measurement systems (PEMS). The acquisition of remote-sensing measurements for hydrocarbons, carbon-monoxide, and oxides of nitrogen will provide an index of emissions for all vehicles prior to sampling and recruitment for more intensive measurement. The index is expected to facilitate recruitment of vehicles with an emphasis on rare sub-populations such as high-emitting vehicles, and provide a means to appropriately relate measured vehicles to the overall fleet.

Research questions for the project include: (1) Can remote-sensing be used as a reliable index of emissions across the range of emissions? (2) Can PEMS measure accurate emissions time series for very clean vehicles, such as Tier 2 (Bins 2 and 3) or LEV-II (ULEV, SULEV)? (3) How can portable instruments be used to measure start emissions? and (4) Can the emissions index used for recruitment also serve as a means to estimate potential non-response bias?

We plan to collect remote-sensing measurements on approximately 30,000 vehicles, and from this pool, to recruit approximately 100 vehicles for measurement using PEMS. Participation in the program will be voluntary. The target population for the project will include light-duty cars and trucks certified to Tier 2 (Bins 5, 3 and 2) or equivalent LEV-II standards (LEV, ULEV or SULEV), respectively.

The information collection will involve 250 respondents, requiring 360 hours to complete at a total cost to those respondents of $9,500. For the Agency, the collection will require 3,200 hours to complete at a total cost of $250,000.

Burden Statement: The annual public reporting and recordkeeping burden for this collection of information is estimated to average 1.45 hours per response. Burden means the total time, effort, or financial resources expended by persons to generate, maintain, retain, or disclose or provide information to or for a Federal Agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

The ICR provides a detailed explanation of the Agency's estimate, which is only briefly summarized here:

Estimated total number of potential respondents: 250.

Frequency of response: On Occasion.

Estimated total average number of responses for each respondent: One.

Estimated total annual burden hours: 360.

Estimated total annual costs: $9,500.

This includes an estimated burden cost of $9,500 and an estimated cost of $0 for capital investment or maintenance and operational costs.

What Is the Next Step in the Process for This ICR?

EPA will consider the comments received and amend the ICR as appropriate. The final ICR package will then be submitted to OMB for review and approval pursuant to 5 CFR 1320.12. At that time, EPA will issue another Federal Register notice pursuant to 5 CFR 1320.5(a)(1)(iv) to announce the submission of the ICR to OMB and the opportunity to submit additional comments to OMB. If you have any questions about this ICR or the approval process, please contact the technical person listed under FOR FURTHER INFORMATION CONTACT.

Dated: September 18, 2009.
Chester J. France,
Director, Assessment and Standards Division.

[FR Doc. E9-29440 Filed 12-9-09; 8:45 am]

BILLING CODE 6560-50-P